DEPARTMENT OF ENERGY

Federal Energy Regulatory Commission

[Docket Nos. CP05-130-000, etc.]

Dominion Cove Point LNG, LP, et al., Notice of Rescheduling of Technical Conference

August 1, 2008.

| Docket Nos.
Dominion Cove Point LNG, LP | CP05-130-000, CP05-130-001, CP05-130-002, CP05-130-003, CP05-132-000, CP05-132-001, CP05-132-002, CP05-395-000, CP05-395-001.
Dominion Transmission, Inc | CP05-131-000, CP05-131-001, CP05-131-002. (Not consolidated)

Notice of Rescheduling of Technical Conference

On July 28, 2008, the Commission issued a Notice of Technical Conference in Dominion Cove Point LNG, LP, et al., Docket No. CP05-130-000, et al., scheduling a Technical Conference in these proceedings on Wednesday, August 6, 2008.¹ The Technical Conference is rescheduled to be held at the Commission's offices in Washington, DC, on Thursday, August 14, 2008, commencing at 10 a.m.

¹ The July 28, 2008 Notice inadvertently failed to include Dominion Cove Point LNG, LP, Docket Nos. CP05-395-000 and CP05-395-001.

As stated in the July 28 Notice, on July 18, 2008, the United States Court of Appeals for the District of Columbia issued an order ² vacating the orders in the underlying proceeding ³ to the extent that they approve the Cove Point Expansion Project, and remanded the case to the Commission to more fully address whether, consistent with the public interest, the Cove Point Expansion Project can go forward without causing unsafe leakage. While upholding the Commission's analysis that defects in Washington Gas Light Company's (WGL) system caused the gas leaks on WGL's system in Prince George's County, Maryland, the Court found that the Commission's determination that WGL will be able to fix its facilities before the November 2008 in-service was not supported by substantial evidence. The Commission staff has determined that discussing with the parties the issues raised by the Court would assist staff in evaluating these matters.

² Washington Gas Light Company v. Federal Energy Regulatory Commission, Case No. 07-1015 (D.C. Cir. 2008).

³ Dominion Cove Point, LNG, LP, 115 FERC ¶ 61,337 (2006), order on reh'g, 118 FERC ¶ 61,007 (2007); 115 FERC ¶ 61,336 (2006), order on reh'g, 118 FERC ¶ 61,006 (2007).

The July 28, 2008 Notice also stated that the Commission is convening this Technical Conference in order that the parties and the Commission Staff can discuss whether and when the Cove Point Expansion Project can go forward without causing unsafe leakage consistent with the public interest. Specifically, the participants should be prepared to discuss the nature and progress of remedial measures taken to date, as well as the need and benefit of any other remedial measures that might be taken by WGL and Dominion Cove Point LNG, LP so that WGL's system can safely accommodate the increased amounts of regasified LNG from Cove Point's LNG import terminal.

FERC conferences are accessible under section 508 of the Rehabilitation Act of 1973. For accessibility accommodations please send an e-mail to accessibility@ferc.gov or call toll free (866) 208-3372 (voice) or (202) 208-1659 (TTY), or send a FAX to (202) 208-2106 with the required accommodations.

Kimberly D. Bose,
Secretary.

[FR Doc. E8-18268 Filed 8-7-08; 8:45 am]

BILLING CODE 6717-01-P